POSTAL SERVICE

Request for Comments on an Outline for Discussion: Concepts for Postal Transformation

AGENCY: Postal Service.

ACTION: Extension of comment period.

SUMMARY: The Postal Service published a notice with request for public comment in the Federal Register (66 FR 51480-51481) on October 9, 2001. The document on which comments are requested is available on the Postal Service's public Web site at www.usps.com/strategicdirection or at www.usps.com keyword: transformation. Comments were due November 1, 2001. The comment period is hereby extended until January 31, 2002.

DATES: The Postal Service must receive your comments on or before January 31, 2002. No additional extensions on the comment period will be granted.

ADDRESSES: Those responding are encouraged to e-mail their comments to transformation@email.usps.gov. Those wishing to send written comments should mail them to Julie S. Moore, Executive Program Director, Office of Transformation, Strategic Planning, Room 4011, United States Postal Service Headquarters, 475 L'Enfant Plaza, SW., Washington, DC 20260-1520.

FOR FURTHER INFORMATION CONTACT: Paul Van Coverden (202) 268-8130.

Stanley F. Mires,
Chief Counsel, Legislative.

[FR Doc. 01-31167 Filed 12-17-01; 8:45 am]

BILLING CODE 7710-12-P